ARCHITECTURAL AND TRANSPORTATION BARRIERS COMPLIANCE BOARD

Accessibility Guidelines for Shared Use Paths

AGENCY: Architectural and Transportation Barriers Compliance Board.

ACTION: Notice of public information meeting.

SUMMARY: The Access Board plans to develop new accessibility guidelines specific to shared use paths (SUPs) designed for use by pedestrians, cyclists, roller skaters, skateboarders, and other non-motorized users. In addition to general recreational use, SUPs often serve a transportation purpose, providing a system of off-road transportation routes for users. The Access Board will hold a public information meeting in conjunction with the ProWalk/ProBike 2010 Conference to provide an opportunity for individuals with disabilities, designers of shared use paths, and those with expertise in this area to provide information to assist the Access Board in establishing accessibility guidelines for shared use paths.

DATES: The information meeting will be on Monday, September 13, 2010 from 1 p.m. until 5 p.m.

ADDRESSES: The public information meeting will be held in conjunction with the ProWalk/ProBike 2010 Conference at the Chattanooga Convention Center, Ballroom G, 1150 Carter Street, Chattanooga, Tennessee 37402.

FOR FURTHER INFORMATION CONTACT: Peggy Greenwell, Office of Technical and Information Services, Architectural and Transportation Barriers Compliance Board, 1331 F Street, NW., suite 1000, Washington, DC 20004-1111. Telephone number: 202-272-0017 (voice); 202-272-0082 (TTY). Electronic mail address: greenwell@access-board.gov.

SUPPLEMENTARY INFORMATION: The Access Board plans to develop new accessibility guidelines specific to shared use paths (SUPs) designed for use by pedestrians, cyclists, roller skaters, skateboarders, and other non-motorized users. In addition to general recreational use, SUPs often serve a transportation purpose, providing a system of off-road transportation routes for users. Whether located within a highway right-of-way, provided along a river, or established over natural terrain within an independent right of way, SUPs are differentiated from sidewalks, trails, and accessible routes on sites by their multipurpose use.

The Access Board will hold a public information meeting on September 13, 2010 in conjunction with the ProWalk/ProBike 2010 Conference to provide an opportunity for individuals with disabilities, designers of shared use paths, and those with expertise in this area to provide information to assist the Access Board in establishing accessibility guidelines for shared use paths. The meeting will feature representatives from the State of Washington Department of Transportation, Florida Department of Transportation, and the American Association of State Highway and Transportation Officials (AASHTO) who will address upcoming guidance on shared use path design. Attendees are encouraged to discuss issues related to accessibility of shared use paths.

The information meeting is open to all members of the public, including those who are not registered to attend the ProWalk/ProBike Conference. The meeting location is accessible to individuals with disabilities. Sign language interpreters and real-time captioning will be provided. For the comfort of other participants, persons attending the hearing are requested to refrain from using perfume, cologne, and other fragrances.

David M. Capozzi,
Executive Director.

[FR Doc. 2010-20833 Filed 8-20-10; 8:45 am]

BILLING CODE 8150-01-P